DEPARTMENT OF LABOR

Employment and Training Administration

[NAFTA-05183]

Cognis Corporation, Lock Haven; PA; Notice of Negative Determination Regarding Application for Reconsideration

By application received on February 11, 2002, the workers requested administrative reconsideration of the Department's negative determination regarding eligibility to apply for North American Free Trade Agreement-Transitional Adjustment Assistance (NAFTA-TAA), applicable to workers and former workers of the subject firm. The denial notice was signed on November 16, 2001, and was published in the Federal Register on December 5, 2002 (66 FR 63262).

Pursuant to 29 CFR 90.18(c) reconsideration may be granted under the following circumstances:

(1) If its appears on the basis of facts not previously considered that the determination complained of was erroneous;

(2) If it appears that the determination complained of was based on a mistake in the determination of facts not previously considered; or

(3) If in the opinion of the Certifying Officer, a misinterpretation of facts or of the law justified reconsideration of the decision.

The NAFTA-TAA petition, filed on behalf of workers at Cognis Corporation, Lock Haven, Pennsylvania engaged in activities related to the production of photomers was denied because criteria (3) and (4) were not met. Imports from Canada or Mexico did not contribute importantly to workers' separations. There was no shift in production from the subject firm to Canada or Mexico during the relevant period. The investigation revealed that the Lock Haven plant transferred production to another domestic location.

The petitioner alleges that the company not only produced photomers as the decision indicated, but also produced dye intermediates.

Based on the information provided by the petitioner and the company it is evident that the dye intermediates were produced and discontinued prior to the relevant period. The investigation concentrated on the product (photomers) produced at the subject firm during the relevant period.

Although not noted in the denial notice, the Department surveyed the customers of the subject firm regarding their purchases of photomers during the relevant period. The survey revealed that none of the respondents increased their purchases of imported photomers, while decreasing their purchases from the subject firm during the relevant period.

Conclusion

After review of the application for reconsideration and investigative findings, I conclude that there has been no error or misinterpretation of the law or of the facts which would justify reconsideration of the Department of Labor's prior decisions. Accordingly, the application is denied.

Signed at Washington, DC, this 16th day of April 2002.
Edward A. Tomchick,
Director, Division of Trade Adjustment Assistance.

[FR Doc. 02-12404 Filed 5-16-02; 8:45 am]

BILLING CODE 4510-30-M